ENVIRONMENTAL PROTECTION AGENCY

[ER-FRL-6692-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070307, ERP No. D-USA-A11079-00, Permanent Home Stationing of the 2/25th Stryker Brigade Combat Team (SBECT), To Address a Full Range of Alternatives for Permanently Stationing the 2/25th SBCT, Hawaii and Honolulu Counties, HI; Anchorage and Southeast Fairbanks Boroughs, AK; El Paso, Pueblo, and Fremont Counties, CO.

Summary: EPA expressed environmental concerns about the cumulative impacts related to the recent decision to resume year-round training operations in the Eagle River Flats area at Fort Richardson, AK. EPA recommended a cumulative impact analysis, particularly on water resources and the Cook Inlet Beluga whale population in this area. Rating EC2.

EIS No. 20070330, ERP No. D-IBW-K36148-CA, PROGRAMMATIC—Tijuana River Flood Control Project, Proposing a Range of Alternatives for Maintenance Activities and Future Improvements, San Diego County, CA.

Summary: EPA expressed environmental concerns about air and water quality, and requested that best management practices be incorporated into the project to reduce impacts Rating EC2.

EIS No. 20070372, ERP No. D-BLM-E60016-00, Alabama and Mississippi Resource Management Plan, Analyzes Management Alternatives for the Public Land and Resources, in Portions of the States of Alabama and Mississippi.

Summary: EPA supports BLM's suite of management alternatives. However, EPA expressed environmental concerns about the lack of detailed discussion of waste water disposal given the potential for impacts to water quality. A more detailed discussion of Alabama's and Mississippi's underground injection well control (IUC) programs should be provided in the final EIS. Rating EC2.

EIS No. 20070390, ERP No. DS-AFS-L65382-ID, Meadow Face Stewardship Pilot Project, Improvement to Aquatic and Terrestrial Vegetative Conditions, Supplement Information on the Cumulative Effects Analysis, Nez Perce National Forest, Clearwater Ranger District, Idaho County, ID.

Summary: EPA does not object to the proposed action. Rating LO.

EIS No. 20070300, ERP No. LD-USA-J11118-MT, Limestone Hills Training Area (LHTA) Withdrawal Project, To Withdraw Federal Lands from within the LHTA from DOI, Bureau of Land Management for Transfer to Montana Army National Guard for Military Training Use, Broadwater County, MT.

Summary: EPA does not object to the proposed action. Rating LO.

Final EISs

EIS No. 20070342, ERP No. F-FRC-E03016-GA, Elba III Project, Construct, Operate and Acquire Facilities to move Re-Vaporized Liquefied Natural Gas (LNG), U.S. Army COE Section 10 and 404 Permits and U.S. Coast Guard Permit, Elba Island, Chatham County, GA.

Summary: EPA continues to have environmental concerns about air quality and pipeline alignment impacts and requested additional mitigation.

EIS No. 20070389, ERP No. F-FHW-K40262-CA, Interstate 5 (Santa Ana Freeway) Project, Improvement from State Route 91 in Orange County to Interstate 605 in Los Angeles County, CA.

Summary: EPA continues to have environmental concerns about air quality impacts, including mobile source air toxics. EPA recommends identifying MSAT hotspots; appropriate avoidance, minimization, and/or mitigation for MSATs; and additional mitigation measures for particulate matter.

EIS No. 20070394, ERP No. F-COE-E39068-FL, Central and Southern Florida Project, Comprehensive Everglades Restoration Plan, Caloosahatchee River (C-43) West Basin Storage Reservoir Project, Restoration of the Ecosystem in Caloosahatchee Estuary, Lake Okeechobee, FL.

Summary: EPA expressed environmental concerns about water quality impacts and requested warm-weather reservoir water quality monitoring and blue-green algal sampling.

EIS No. 20070407, ERP No. F-AFS-J65480-MT, North Bridger Allotment Management Plan Update, Proposal to Update Allotment Management Plan on 11 Livestock Grazing Allotments, Bozeman Ranger District, Gallatin National Forest, Gallatin County, MT.

Summary: EPA supports the selection of alternative 3 and proposed grazing improvements, but has some environmental concerns about water quality and the resources to implement proposed grazing and range improvements, and monitoring and oversight in a near term time frame to improve water quality.

EIS No. 20070424, ERP No. F-BPA-L08065-WA, Port Angeles—Juan de Fuca Transmission Project, Construct a 550-Megawatt Direct Current Cable from Victoria, British Columbia, across the Strait of Juan de Fuca to Port Angeles, Presidential Permit, Clallam County, WA.

Summary: EPA continues to have environmental concerns about water quality issues, and requested that clarifying information be included in the Record of Decision.

Dated: November 6, 2007.
Robert W. Hargrove,
Director, NEPA Compliance Division, Office of Federal Activities.

[FR Doc. E7-22035 Filed 11-8-07; 8:45 am]

BILLING CODE 6560-50-P